DEPARTMENT OF DEFENSE

Department of the Army; Corps of Engineers

Withdrawal of Notice of Intent for the Environmental Impact Statement Process for the Delta Wetlands Project in San Joaquin and Contra Costa Counties, California.

AGENCY: Department of the Army; Corps of Engineers, DoD.

ACTION: Notice of intent; withdrawal.

SUMMARY: In accordance with the National Environmental Policy Act (NEPA), on February 28, 2013, the U.S. Army Corps of Engineers (Corps), Sacramento District, initiated the Supplemental Environmental Impact Statement (EIS) process to evaluate the effects of the proposed development of two Reservoir Islands (Bacon Island and Webb Tract) and to assist the Corps in deciding whether to approve Delta Wetlands Properties' application under Section 404 of the Clean Water Act. On July 25, 2016, the applicant for the proposed project withdrew their application for a Department of the Army Permit. Therefore, the Corps is terminating the EIS process, and is issuing this Notice of Intent to withdraw the February 28, 2013, Notice of Intent to Prepare an SEIS.

FOR FURTHER INFORMATION CONTACT: Questions about the proposed action and this Notice of Intent can be answered by Mr. Zachary Simmons at 916-557-6746, or email at Zachary.M.Simmons@usace.army.mil. Please refer to identification number SPK-1901-9804.

SUPPLEMENTARY INFORMATION: The Corps issued a Department of the Army Permit under Section 404 of the Clean Water Act on June 26, 2002, expiring on December 31, 2007. The applicant applied for a new Department of the Army Permit to fill approximately 2,156 acres of waters of the United States, including wetlands, to implement the project. Due to potentially significant environmental effects associated with the proposed action, on February 28, 2013, the Corps issued a Notice of Intent to Prepare a Supplemental EIS (78 FR 13643). Since publishing the Notice of Intent, the applicant has sold the properties and withdrawn their permit application. As such, the Corps is terminating the EIS process, in accordance with Corps regulations at 33 CFR part 230, Appendix C(2) and 33 CFR part 325, Appendix (8)(g).

Dated: January 18, 2017.
Michael S. Jewell,
Chief, Regulatory Division.

[FR Doc. 2017-02021 Filed 1-30-17; 8:45 am]

BILLING CODE 3720-58-P